DEPARTMENT OF THE INTERIOR

Bureau of Indian Affairs

Proclaiming Certain Lands, Bowlin Property, as an addition to the Pueblo of Laguna Reservation, NM

AGENCY: Bureau of Indian Affairs, Interior.

ACTION: Notice of Reservation Proclamation.

SUMMARY: This notice informs the public that the Assistant Secretary—Indian Affairs proclaimed approximately 30.754 acres, more or less, to be added to the Pueblo of Laguna Reservation (Laguna), New Mexico.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This Notice is published in the exercise of authority delegated by the Secretary of the Interior to the Assistant Secretary—Indian Affairs by part 209 of the Departmental Manual.

A proclamation was issued, according with Section 7 of the Act of June 18, 1934 (48 Stat. 986; 25 U.S.C. 467), for the land described below. The land was proclaimed to be an addition to and part of the Laguna Reservation for the exclusive use of Indians on that reservation who are entitled to reside at the reservation by enrollment or tribal membership.

New Mexico Principal Meridian

Bernalillo County, New Mexico

Section 04, Township 09 North, Range 1 West, N.M.P.M.

A parcel of land, containing 30.754 acres, more or less, located within Lots 6, 7, 8 and 9 of Section 04, Township 09 North, Range 1 West, N.M.P.M., County of Bernalillo, State of New Mexico, being more particularly bounded and described as follows, to-wit:

Beginning at a point where the northerly line of the Antonio Sedillo Grant intersects the southerly right of way line of NMP I-040-3(31)137, County of Bernalillo, State of New Mexico, from which point the southwest corner of Section 4 bears N. 89°41′36″ W. a distance of 782.46 feet; thence N. 74°50′24″ E. along the southerly right of way line of I-040-3(31)137 a distance of 253.13 feet to a point of curve; thence Northeasterly on a 2.533° curve (radius = 2,262 feet) through an arc of 13°30′ to the right a distance of 532.96 feet to a point of tangent; thence N. 88°27′04″ E. a distance of 933.28 feet; thence S. 1°32′56″ E. a distance of 45 feet; thence N. 88°27′04″ E. a distance of 358.96 feet to a point of curve; thence Northeasterly on a 7.649° curve (radius = 749.12 feet) through an arc of 38°30′ to the left a distance 503.33 feet to a point of compound curve; thence Northeasterly on a 13.906° curve (radius = 412.06 feet) through an arc of 16°30′ to the left a distance of 118.65 feet; thence S. 56°32′56″ E. a distance of 50 feet to a point on curve; thence Northeasterly on a 12.401° curve (radius = 462.06 feet) through an arc of 25°30′ to the left a distance of 205.63 feet; thence N. 82°02′56″ W. distance of 50 feet to a point on curve; thence Northeasterly on a 13.906° curve (radius = 412.06 feet) through an arc of 20°54′50″ to the left a distance of 150.39 feet; thence N. 74°50′24″ E. a distance of 960.45 feet to a point on the westerly line of the Town of Atrisco Grant; thence S. 0°03′24″ W. along said westerly Grant line a distance of 204.5 feet; thence S. 23°11′36″ E. a distance of 858.0 feet; thence N. 89°41′36″ W. a distance of 3926.38 feet to the point and place of beginning.

The above-described lands contain a total of 30.754 acres, more or less, which are subject to all valid rights, reservations, rights-of-way, and easements of record.

This proclamation does not affect title to the land described above, nor does it affect any valid existing easements for public roads and highways, public utilities and for railroads and pipelines and any other rights-of-way or reservations of record.

Dated: March 24, 2007.
Carl J. Artman,
Assistant Secretary—Indian Affairs.

[FR Doc. E7-6388 Filed 4-4-07; 8:45 am]

BILLING CODE 4310-W7-P